DEPARTMENT OF HOUSING AND URBAN DEVELOPMENT

[Docket No. FR-5843-N-05]

Implementation of the Privacy Act of 1974, as Amended; New System of Records, Rent Reform Demonstration

AGENCY: Office of the Chief Information Officer, HUD.

ACTION: New System of Records.

SUMMARY: The Department's Office of Policy Development and Research (PD&R) is proposing to create a new system of records (SORN), the “Rent Reform Demonstration.” The Department's Office of PD&R is responsible for maintaining current information on housing needs, market conditions and existing programs, as well as conducting research on priority housing and community development issues. The Rent Reform Demonstration is a randomized controlled experiment designed to test, at the national level an evaluation of alternative solutions designed to improve the current rent subsidy model. The demonstration is being implemented at several “Moving to Work” (MTW) public housing agencies (PHAs) in different parts of the country. Pursuant to the federal law authorizing MTW, Congress gave local public housing agencies the opportunity to design and test innovative policies to improve the current rent subsidy system. All MTW public housing agencies have the authority to institute new policies system-wide. The Rent Reform Demonstration gives participating MTW public housing agencies the opportunity to adopt new policies on a trial basis and to learn from a careful evaluation whether they achieve benefits for tenants and the housing agency.

The overall objective of the Rent Reform Demonstration is to compare the current rent structure of the Housing Choice Voucher (HCV) program to the alternate rent structure's to examine the impact on household employment, earnings, hardship, health, and homelessness; gain knowledge and comprehension on the impact that the alternative rent system has on HCV program families; and to identify ways to simplify and make less expensive the PHA's administrative processes. A more detailed description of the new system of records is outlined in the “Purpose” caption of this system of records notice.

DATES: Effective Date: The notice will be effective May 4, 2015, unless comments are received that would result in a contrary determination.

Comments Due Date: May 4, 2015.

ADDRESSES: Interested persons are invited to submit comments regarding this notice to the Rules Docket Clerk, Office of the General Counsel, Department of Housing and Urban Development, 451 Seventh Street SW., Room 10276, Washington, DC 20410-0500. Communication should refer to the above docket number and title. A copy of each communication submitted will be available for public inspection and copying between 8:00 a.m. and 5:00 p.m. weekdays at the above address.

FOR FURTHER INFORMATION CONTACT: Donna Robinson-Staton, Chief Privacy Officer, 451 Seventh Street SW., Washington, DC 20410 (Attention: Capitol View Building, 4th Floor), telephone number: (202) 402-8073. [The above telephone number is not a toll free number.] A telecommunications device for hearing-and speech-impaired persons (TTY) is available by calling the Federal Information Relay Service's toll-free telephone number (800) 877-8339.

SUPPLEMENTARY INFORMATION: This system of records will be operated by HUD's Office of PD&R and will include personally identifiable information (PII) pertaining to participants of the Rent Reform Demonstration that will be retrieved from the system by a name or unique identifier. The new system of records will encompass information on program and services administered by the Department. Publication of this notice allows the Department to satisfy its reporting requirement and keep an up-to-date accounting of its system of records publications. The new system of records will incorporate Federal privacy requirements and Department's policy requirements. The Privacy Act provides individuals with certain safeguards against an invasion of personal privacy by requiring Federal agencies to protect records contained in an agency system of records from unauthorized disclosure, by ensuring that information is current and collected only for its intended use, and by providing adequate safeguards to prevent misuse of such information. Additionally, this notice demonstrates the Department's focus on industry best practices to protect the personal privacy of the individuals covered by this system of records notice.

This notice states the name and location of the record system, the authority for and manner of its operations, the categories of individuals that it covers, the type of records that it contains, the sources of the information for the records, the routine uses made of the records and the type of exemptions in place for the records. In addition, this notice includes the business addresses of Department officials' who will inform interested persons of the procedures whereby they may gain access to and/or request amendments to records pertaining to them.

This publication does meet the SORN threshold requirements pursuant to the Privacy Act and OMB Circular A-130, and a report was submitted to the Office of Management and Budget (OMB), the Senate Committee on Homeland Security and Governmental Affairs, and the House Committee on Government Reform as instructed by Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: March 27, 2015.
Rafael C. Diaz,
Chief Information Officer.

SYSTEM OF RECORDS NO.:

PD&R/RRE.05

SYSTEM NAME:

Rent Reform Demonstration.

SYSTEM LOCATION:

The Department of Housing and Urban Development, 451 Seventh Street SW., Washington, DC 20140; MDRC, 16 East 34 Street, 19th Floor, New York, NY 10016 and MDRC, 475 14th Street, Suite 750, Oakland, CA 94612-1900; eVault, 14944 Pony Express Road, Bluffdale, Utah 84065; Branch Associates, Inc., 1628 JFK Boulevard, Suite 800, 8 Penn Center, Philadelphia, PA 19103; Bronner Group, 120 N La Salle Street, Room 1300, Chicago, IL 60602; Quadel Consulting Corporation, 1200 G Street NW., Suite 700, Washington, DC 20005; Urban Institute, 2100 M Street NW., Washington, DC 20037; and Ingrid Gould Ellen, New York University, Robert F. Wagner Graduate School of Public Service, 295 Lafayette Street, New York, NY 10012. The storage and archival facility for the Rent Reform Demonstration data files is located at Datacenter/Windstream, 15 Shattuck Road Andover, MA 01810.

CATEGORIES OF INDIVIDUALS COVERED BY THE SYSTEM:

The categories of individuals covered by this system will include all household members enrolled in the Rent Reform Demonstration.

CATEGORIES OF RECORDS IN THE SYSTEM:

The categories of records in the system will include the participants name, home address, telephone numbers, personal email address, Social Security Number, date of birth, marital status, citizenship status, rental housing assistance status and history, date of birth and relationship code for minors, Supplemental Nutrition Assistance Program (SNAP) status, Temporary Assistance for Needy Families (TANF) status, income, savings level, debt level, educational attainment, employment status, childcare costs, health insurance status, and employment impediments.

AUTHORITY FOR MAINTENANCE OF THE SYSTEM:

The authority for the collection of records, and the maintenance of this system is authorized by Sections 501-502 of the Housing and Urban Development Act of 1970 (Pub. L. 91-609), 12 U.S.C. 1701z-1, 1701z-2.

PURPOSE(S):

The purpose of the Rent Reform Demonstration SORN is to allow the Department to collect, track, and study information gathered on HCV program participants, and to analyze the overall effectiveness of existing programs and policies to examine the impact on HCV program families. In order to study the sample of up to 9,000 families participating in the Demonstration, it is necessary to collect their contact information and other personal identifying information with their consent so that the Department can match study participants with various forms of administrative data for the purpose of conducting statistical analysis and presenting aggregate analysis of impacts of the alternative rent model on the study sample. In addition, the records collected through this evaluation represent HUD's effort to assess and report to Congress on the performance and impact of this Demonstration. The Department is conducting this study under contract with MDRC and its subcontractors (Branch Associates, The Bronner Group, Quadel Consulting Corporation, and the Urban Institute). The intent of the demonstration is to gain a comprehensive understanding of the impact that the alternative rent system has on families, as well as understand the administrative burden on Public Housing Agencies (PHAs). The Rent Reform Demonstration will rely on multiple data sources. The evaluation will include a careful assessment of the implementation, impacts, and cost of the new policy already developed by four PHAs in different parts of the country. The project is a random assignment trial of an alternative rent system. Families will be randomly assigned to either participate in the new/alternative rent system or to continue in the current system. PHAs currently participating in the MTW Demonstration are being recruited to participate in this demonstration. Data collection will include the study sample of up to 9,000 families that are part of the treatment and control groups. The work covered under this information request is for the baseline survey. The Rent Reform demonstration is structured around a two-group random assignment study. Using this design, up to 9,000 households will be recruited and randomly allocated to the program group or control group, each of which will include up to 4,500 households. Four PHAs have agreed to participate in this demonstration project: (1) Lexington Housing Authority, Kentucky; (2) Louisville Metro Housing Authority, Kentucky; (3) San Antonio Housing Authority, Texas; and (4) District of Columbia Housing Authority, District of Columbia.

The fundamental goals of the proposed study are:

1. Increase work effort and reported earnings of families

2. Serve more families

Ideally, the alternative rent model would yield at least as much income to the PHAs as the current system and would allow administrative savings as well. This would allow them to serve at least the same number of families and continue to meet the goal of preventing (or reducing) homelessness and minimizing rent burden. In addition, the incentive to underreport income would be reduced significantly. In order to measure the impact of the alternative rent model the Department needs to be able to track the study sample of up to 9,000 families to obtain data related to employment, earnings, and hardship outcomes.

ROUTINE USES OF RECORDS MAINTAINED IN THE SYSTEM, INCLUDING CATEGORIES OF USERS AND THE PURPOSES OF SUCH USES:

In addition to those disclosures generally permitted under 5 U.S.C. Section 552a(b) of the Privacy Act, all or a portion of the records or information contained in this system may be disclosed outside HUD as a routine use pursuant to 5 U.S.C. 552a(b)(3) as follows:

1. To appropriate agencies, entities, and persons to the extent that such disclosures are compatible with the purpose for which the records in this system were collected, as set forth by Appendix I ¹—HUD's Library of Routine Uses published in the Federal Register (July 17, 2012, at 77 FR 41996);

¹ http://portal.hud.gov/hudportal/documents/huddoc?id=append1.pdf.

2. To researchers for the purpose of producing a dataset to be used to support the Rent Reform Demonstration and Impact Evaluation of the Rent Reform Demonstration. The data collection will specifically provide data of the household's characteristics to describe the sample and ensure that the two study groups are random, and provide information that allows for the initial triennial calculations to be verified; and

3. To appropriate agencies, entities, and persons when: (a) HUD suspects or has confirmed that the security or confidentiality of information in a system of records has been compromised; (b) HUD has determined that as a result of the suspected or confirmed compromise, there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

POLICIES AND PRACTICES FOR STORING, RETRIEVING, ACCESSING, RETAINING, AND DISPOSING OF RECORDS IN THE SYSTEM:

STORAGE:

All data collected will be input and stored in a secure database. Hard-copy materials containing respondent identifying information will be locked up when not in use. All hard-copy materials, including completed forms and electronic records on transportable media, will be kept in locked cabinets when not in use. In addition, data on transportable media will be encrypted. Records with PII will not be printed. Records and the file will be destroyed by MDRC at the completion of the study.

RETRIEVABILITY:

Records will be retrieved by social security number, entity ID and/or unique study identifier. Data will be retrieved from the initial data files using social security number, entityID, and/or unique study identifier. After receiving all data, another unique household ID will be assigned to each household known by the research team only (called the SampleID); records will be pulled by SampleID when possible.

SAFEGUARDS:

Access protections: Access to any server, security, storage, backup, security and infrastructure equipment requires an administrative password. These passwords are only available to senior IT staff and never shared. MDRC workstation and laptop configuration: MDRC employees use as a work station a standard laptop that is configured by authorized members of MDRC's IT Group. Laptops include a fingerprint scanner and application. Network access passwords system: MDRC uses a strong password system to control access to its secure data transfer. An application associates each employee's fingerprint with his/her network password. Wireless Access: No wireless access will be available to files, folders or servers involved with this project, except within MDRC's offices. Screen locking: MDRC's IT department has configured all MDRC computers to lock after 10 minutes without use and require a password or fingerprint scan to unlock. MDRC confidentiality pledge: All MDRC staff must sign a Confidentiality Pledge to abide by the corporate policies on data security and confidentiality.

RETENTION AND DISPOSAL:

The retention and disposal procedures will be in keeping with HUD's records management statutory obligations as described in 44 U.S.C. 3101 and 3303. Records will be maintained for a period not to exceed five years. All PII associated with the project will be destroyed by MDRC and their subcontractors or otherwise rendered irrecoverable per NIST Special Publication 800-88 “Guidelines for Media Sanitization” (September 2006) at the end of the contract. At the end of the contract, MDRC will destroy all electronic and paper-based records with PII unless otherwise instructed by HUD. All incoming files will be accounted for at the end of the project—deleted or permanently archived per agreement with HUD and with data providers.

SYSTEM MANAGER(S) AND ADDRESS:

Carol Star, Director, Division of Program Evaluation, Office of Policy Development and Research, Department of Housing and Urban Development, 451 Seventh Street SW., Washington, DC 20410, Telephone Number (202) 402-6139.

NOTIFICATION AND RECORD ACCESS PROCEDURES:

For information, assistance, or inquiries about the existence of records, contact Donna Robinson-Staton, Chief Privacy Officer, U.S. Department of Housing and Urban Development, 451 Seventh Street SW., Room 4156, Washington, DC 20410 (Attention: Capitol View Building, 4th Floor), telephone number: (202) 402-8073. Verification of your identity must include original signature and be notarized. Written request must include the full name, Social Security Number, date of birth, current address, and telephone number of the individual making the request.

CONTESTING RECORD PROCEDURES:

The Department's rules for contesting contents of records and appealing initial denials appear in 24 CFR part 16. Additional assistance may be obtained by contacting: Donna Robinson-Staton, Chief Privacy Officer, U.S. Department of Housing and Urban Development, 451 Seventh Street SW., Room 4156, Washington, DC 20410 (Attention: Capitol View Building, 4th Floor), telephone number: (202) 402-8073 or the HUD Departmental Privacy Appeals Officers, Office of General Counsel, Department of Housing and Urban Development, 451 Seventh Street SW., Washington DC 20410.

RECORD SOURCE CATEGORIES:

Data for this evaluation will be gathered through a variety of methods including informational interviews, direct observation, surveys, and analysis of administrative records. PHAs will provide program participants records, as well as information obtained through an interview of voucher holders that includes: (1) Output of random assignment process data, and (2) Responses provided to baseline information form. Administrative data will come from the participating PHAs' data systems and HUD's Inventory Management System, also known as the Public and Indian Housing Information Center (PIC). This information will be entered into MDRC's on-line system.

SYSTEMS EXEMPTED FROM CERTAIN PROVISIONS OF THE ACT:

None.

[FR Doc. 2015-07613 Filed 4-1-15; 8:45 am]

BILLING CODE CODE 4210-67-P